FEDERAL ELECTION COMMISSION

Sunshine Act Notices

Date and Time: Thursday, July 26, 2007 at 10 a.m.

Place: 999 E Street, NW., Washington, DC (Ninth Floor).

Status: This Meeting Will be Open to the Public.

Items to be Discussed: Correction and Approval of Minutes.

Advisory Opinion 2007-09: Kerry-Edwards 2004, Inc., and Kerry Edwards 2004 General Election Legal and Accounting Compliance (“GELAC”) Fund.

Report of the Audit Division on Ted Poe for Congress.

Management and Administrative Matters.

PERSON TO CONTACT FOR INFORMATION: Mr. Robert Biersack, Press Officer, Telephone: (202) 694-1220.

Mary W. Dove,
Secretary of the Commission.

[FR Doc. 07-3567 Filed 7-18-07; 2:46 pm]

BILLING CODE 6715-07-M